DEPARTMENT OF COMMERCE

National Oceanic and Atmospheric Administration

15 CFR Part 922

[Docket No. 130403324-3376-01]

RIN 0648-BC94

Boundary Expansion of Thunder Bay National Marine Sanctuary

AGENCY: Office of National Marine Sanctuaries (ONMS), National Ocean Service (NOS), National Oceanic and Atmospheric Administration (NOAA), Department of Commerce (DOC).

ACTION: Reopening of public comment period.

SUMMARY: On June 14, 2013, NOAA published a proposed rule in the Federal Register to revise the regulations for the boundary of the Thunder Bay National Marine Sanctuary (78 FR 35776). This notice reopens the public comment period stated in that proposed rule until October 18, 2013.

DATES: NOAA will accept public comments on the proposed rule published at 78 FR 35776 (June 14, 2013) through October 18, 2013.

ADDRESSES: You may submit comments on this document, identified by NOAA-NOS-2012-0077, by any of the following methods:

• Electronic Submission: Submit all electronic public comments via the Federal e-Rulemaking Portal. Go to www.regulations.gov/#!docketDetail;D=NOAA-NOS-2012-0077, click the “Comment Now!” icon, complete the required fields, and enter or attach your comments.

• Mail: Submit written comments to Thunder Bay National Marine Sanctuary, 500 W. Fletcher, Alpena, Michigan 49707, Attn: Jeff Gray, Superintendent.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous). Attachments to electronic comments will be accepted in Microsoft Word, Excel, or Adobe PDF file formats only

FOR FURTHER INFORMATION CONTACT: Jeff Gray, Superintendent, Thunder Bay National Marine Sanctuary at 989-356-8805 ext. 12 or jeff.gray@noaa.gov.

SUPPLEMENTARY INFORMATION: On June 14, 2013, NOAA published a proposed rule in the Federal Register to revise the regulations for the boundary of the Thunder Bay National Marine Sanctuary (78 FR 35776). An accompanying draft environmental impact statement (DEIS) was also published (78 FR 35928). Public comments on the proposed rule and DEIS were solicited. Three public meetings on the proposed action were held on July 15-17, 2013 in Michigan. While the proposed action has received considerable support, several commenters have raised concerns regarding the applicability of U.S. Coast Guard and U.S. EPA regulations governing discharge of ballast water to the proposed expanded area.

While the public is free to comment on any issue related to the proposed action, NOAA is particularly interested in receiving input on the following topics:

1. Please explain current ballast management practices. Identify, with specificity, all areas where ballast management occurs and under what circumstances.

2. Please explain how the proposed boundary expansion is expected to impact existing ballast management practices.

Dated: August 12, 2013.
Daniel J. Basta,
Director, Office of National Marine Sanctuaries.

[FR Doc. 2013-19940 Filed 8-14-13; 8:45 am]

BILLING CODE 3510-NK-P